DEPARTMENT OF DEFENSE

Department of the Navy

[Docket ID: USN-2022-HQ-0003]

Submission for OMB Review; Comment Request

AGENCY: Department of the Navy, Department of Defense (DoD).

ACTION: Emergency 30-day information collection notice.

SUMMARY: Consistent with the Paperwork Reduction Act of 1995 and its implementing regulations, this document provides notice that DoD is submitting an Information Collection Request to the Office of Management and Budget (OMB) to collect information about the behavior and attitudes of enlisted Navy Sailors regarding alcohol use and sexual assault in order to assist in the adaptation of an existing web-based sexual assault prevention program for use among enlisted Navy Sailors. DoD requests emergency processing and OMB authorization to collect the information after publication of this notice for a period of six months.

DATES: Comments must be received by February 25, 2022.

ADDRESSES: The Department has requested emergency processing from OMB for this information collection request by 30 days after publication of this notice. Interested parties can access the supporting materials and collection instrument as well as submit comments and recommendations to OMB at www.reginfo.gov/public/do/PRAMain. Find this particular information collection by selecting “Currently under 30-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: This submission corresponds to the grant number W81XWH-20-2-0039 funded by the Congressionally Directed Medical Research Program and aligns with the Secretary of Defense's call for novel programs to prevent sexual assault within the military. Given the practical challenges of delivering tailored sexual assault prevention to service members in-person, a computerized prevention program that focuses on multiple risk factors for sexual aggression and sexual victimization, while engaging all service members as active bystanders to reduce risk for violence, addresses a significant gap in prevention delivery. A normative survey will provide information about the behavior and attitudes of Sailors regarding alcohol use and sexual assault. Next, focus groups and interviews will be conducted to obtain feedback about the content of the intervention and ways to adapt it for Sailors. There is no standardized set of questions for the focus groups or interviews, so they are not included in this information collection request. However, interviewees and focus group respondents will be selected based on their drinking habits, which will be determined by a brief pre-interview/focus group survey. After interview/focus group completion, a post-interview/focus group survey will be given to obtain demographic and alcohol use information to be used as descriptive information, as well as data from standardized measures that assess respondents' opinions of the existing intervention. These two surveys are included in this request. Data from the three surveys will be incorporated into the intervention content and help generate an adapted prototype of the sexual assault prevention program (+Change) for Sailors. This study is a critical advancement in the prevention of sexual assault in military service members.

Title; Associated Form; and OMB Number: Personalized Web-Based Sexual Assault Prevention for Service Members; OMB Control Number 0703-PWSP.

Type of Request: New emergency request.

Sexual Assault Prevention in Service Members Normative Survey

Number of Respondents: 500.

Responses per Respondent: 1.

Annual Responses: 500.

Average Burden per Response: 25 minutes.

Annual Burden Hours: 208.3.

Pre and Post Interview/Focus Group Surveys

Number of Respondents: 87.

Responses per Respondent: 2.

Annual Responses: 174.

Average Burden per Response: 7.5 minutes.

Annual Burden Hours: 21.8.

Affected Public: Individuals or households.

Frequency: One time.

Respondent's Obligation: Voluntary.

Request for Comments

Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: January 21, 2022.
Aaron T. Siegel,
Alternate OSD Federal Register Liaison Officer, Department of Defense.

[FR Doc. 2022-01498 Filed 1-25-22; 8:45 am]

BILLING CODE 5001-06-P